DEPARTMENT OF COMMERCE

International Trade Administration

[A-570-901]

Notice of Amended Final Results of the Antidumping Duty Administrative Review of Certain Lined Paper Products From the People's Republic of China

AGENCY: Import Administration, International Trade Administration, Department of Commerce.

DATES: Effective Date: December 6, 2011.

FOR FURTHER INFORMATION CONTACT: Victoria Cho, AD/CVD Operations, Office 3, Import Administration, International Trade Administration, U.S. Department of Commerce, 14th Street and Constitution Avenue NW, Washington, DC 20230; telephone: (202) 482-5075.

SUPPLEMENTARY INFORMATION:

Summary

As a result of the decision of the Court of International Trade (“Court”) in Association of American School Paper Suppliers v. United States, Court Number 09-00163, Slip Op. 11-101 (August 11, 2011), the Department of Commerce (“the Department”) has recalculated the rates for the separate rate companies ¹ in the first administrative review of certain lined paper products (“CLPP”) from the People's Republic of China (“PRC”), for the period of review (“POR”) April 17, 2006 through August 31, 2007.

¹ Hwa Fuh Plastics Co. Ltd./Li Teng Plastics (Shenzhen) Co., Ltd.; Leo's Quality Products Co., Ltd./Denmax Plastic Stationery Factory; and the Watanabe Group (consisting of the following companies: Watanabe Paper Product (Shanghai) Co. Ltd.; Watanabe Paper Product (Linqing) Co. Ltd. (Watanabe Linqing); and Hotrock Stationery (Shenzhen) Co. Ltd.

Background

On April 14, 2009, the Department published its final results of the administrative review for CLPP from the PRC for the period April 17, 2006, through August 31, 2007.² The Department individually examined one company, Shanghai Lian Li Paper Products Co., Ltd. (“Lian Li”). In its Final Results, the Department determined to apply the weighted-average dumping margin calculated for Lian Li to the separate rate companies. On December 22, 2009, the Department published amended final results, to correct for certain ministerial errors in the Final Results.³

² See Certain Lined Paper Products From the People's Republic of China: Notice of Final Results of the Antidumping Duty Administrative Review, 74 FR 17160 (April 14, 2009) (“Final Results”).

³ See Notice of Amended Final Results of the Antidumping Duty Administrative Review of Certain Lined Paper Products from the People's Republic of China, 74 FR 68036 (December 22, 2009) (“Amended Final”).

The Association of American School Paper Suppliers challenged the Department's Amended Final at the Court. On July 27, 2010, the Court remanded the case for the Department to revisit its determination concerning the selection of information to calculate surrogate financial values. On August 11, 2011, the Court sustained the Department's final results of redetermination.⁴ On August 25, 2011, the Department published an amended final results in which it recalculated Lian Li's rate.⁵ However, in that notice, the Department neglected to announce the changes to the separate rate companies' rates as a result of the litigation in Association of American School Paper Suppliers v. United States.

⁴ Association of American School Paper Suppliers v. United States, Court Number 09-00163, Slip Op. 11-101 (August 11, 2011).

⁵ Certain Lined Paper Products From the People's Republic of China: Notice of Court Decision Not in Harmony With Final Results of Administrative Review and Notice of Amended Final Results of Administrative Review Pursuant to Court Decision, 76 FR 53116 (August 25, 2011). The Department recalculated Lian Li's rate as determined in Certain Lined Paper Products From the People's Republic of China: Notice of Court Decision Not in Harmony With Final Results of Administrative Review and Notice of Amended Final Results of Administrative Review Pursuant to Court Decision, 76 FR 28213 (May 16, 2011).

Therefore, the Department is now announcing the rate calculated for separate rate companies based on the calculation which was sustained in Association of American School Paper Suppliers v. United States.

Scope of the Order

The scope of this order includes certain lined paper products, typically school supplies (for purposes of this scope definition, the actual use of or labeling these products as school supplies or non-school supplies is not a defining characteristic) composed of or including paper that incorporates straight horizontal and/or vertical lines on ten or more paper sheets (there shall be no minimum page requirement for looseleaf filler paper) including but not limited to such products as single- and multi-subject notebooks, composition books, wireless notebooks, looseleaf or glued filler paper, graph paper, and laboratory notebooks, and with the smaller dimension of the paper measuring 6 inches to 15 inches (inclusive) and the larger dimension of the paper measuring 8¾ inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this order whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated, included with, or attached to the product, cover and/or backing thereto.

Specifically excluded from the scope of this order are:

• Unlined copy machine paper;

• Writing pads with a backing (including but not limited to products commonly known as “tablets,” “note pads,” “legal pads,” and “quadrille pads”), provided that they do not have a front cover (whether permanent or removable). This exclusion does not apply to such writing pads if they consist of hole-punched or drilled filler paper;

• Three-ring or multiple-ring binders, or notebook organizers incorporating such a ring binder provided that they do not include subject paper;

• Index cards;

• Printed books and other books that are case bound through the inclusion of binders board, a spine strip, and cover wrap;

• Newspapers;

• Pictures and photographs;

• Desk and wall calendars and organizers (including but not limited to such products generally known as “office planners,” “time books,” and “appointment books”);

• Telephone logs;

• Address books;

• Columnar pads & tablets, with or without covers, primarily suited for the recording of written numerical business data;

• Lined business or office forms, including but not limited to: Pre-printed business forms, lined invoice pads and paper, mailing and address labels, manifests, and shipping log books;

• Lined continuous computer paper;

• Boxed or packaged writing stationary (including but not limited to products commonly known as “fine business paper,” “parchment paper”, and “letterhead”), whether or not containing a lined header or decorative lines;

• Stenographic pads (“steno pads”), Gregg ruled (“Gregg ruling” consists of a single- or double-margin vertical ruling line down the center of the page. For a six-inch by nine-inch stenographic pad, the ruling would be located approximately three inches from the left of the book.), measuring 6 inches by 9 inches;

Also excluded from the scope of this order are the following trademarked products:

• Fly ™ lined paper products: A notebook, notebook organizer, loose or glued note paper, with papers that are printed with infrared reflective inks and readable only by a Fly ™ pen-top computer. The product must bear the valid trademark Fly ™ (products found to be bearing an invalidly licensed or used trademark are not excluded from the scope).

• Zwipes™: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™ (products found to be bearing an invalidly licensed or used trademark are not excluded from the scope).

• FiveStar®Advance:™ A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1″ wide elastic fabric band. This band is located 2⅜″ from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar®Advance™ (products found to be bearing an invalidly licensed or used trademark are not excluded from the scope).

• FiveStar Flex™: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex™ (products found to be bearing an invalidly licensed or used trademark are not excluded from the scope). On September 23, 2011, the Department revoked, in part, the AD order with respect to FiveStar® Advance™ notebooks and notebook organizers without PVC coatings. See Certain Lined Paper Products From People's Republic of China: Final Results of Antidumping Duty Changed Circumstances Review and Revocation, in Part, 76 FR 60803 (September 30, 2011).

Merchandise subject to this order is typically imported under headings 4810.22.5044, 4811.90.9050, 4820.10.2010, 4820.10.2020, 4820.10.2030, 4820.10.2040, 4820.10.2060, and 4820.10.4000 of the Harmonized Tariff Schedule of the United States (“HTSUS”). The HTSUS headings are provided for convenience and customs purposes; however, the written description of the scope of this order is dispositive.

Amended Final Results of Review

The Department has recalculated the weighted-average rates for the separate rate companies based on the litigation discussed above. The following margins apply for the separate rate companies during the POR:

Exporter | Weighted- average margin (percent)
Hwa Fuh Plastics Co., Ltd./Li Teng Plastics (Shenzhen) Co., Ltd | 20.70
Leo's Quality Products Co., Ltd./Denmax Plastic Stationery Factory | 20.70
The Watanabe Group (consisting of the following companies) | 20.70
Watanabe Paper Product (Shanghai) Co., Ltd.
Watanabe Paper Product (Linqing) Co., Ltd.
Hotrock Stationery (Shenzhen) Co., Ltd.

Cash Deposit Requirements

The following deposit requirements will be effective upon publication of these amended final results for all shipments CLLP from the PRC entered, or withdrawn from warehouse, for consumption on or after the publication date of the Timken Notice,⁶ as provided by section 751(a)(2)(C) of the Act: (1) For Hwa Fuh Plastics Co., Ltd./Li Teng Plastics (Shenzhen) Co., Ltd. and Leo's Quality Products Co., Ltd./Denmax Plastic Stationery Factory, the cash deposit rate will be the rate listed above; (2) for the Watanabe Group, the cash deposit rate will be 258.21 percent,⁷ the litigation mentioned above was superseded by the publication of the Second A.R of CLPP; (3) for previously reviewed or investigated companies other than those covered by this review, the cash deposit rate will be the company-specific rate established for the most recent period; (4) if the exporter is not a firm covered in this review, a prior review, or the less-than-fair-value investigation, but the producer is, the cash deposit rate will be the rate established for the most recent period for the manufacturer of the subject merchandise; and (5) if neither the exporter nor the producer is a firm covered in this review, a prior review, or the investigation, the cash deposit rate will be 258.21 percent, the PRC-wide rate established in the less-than-fair-value investigation. These deposit requirements shall remain in effect until further notice.

⁶ See Certain Lined Paper Products From the People's Republic of China: Notice of Court Decision Not in Harmony With Final Results of Administrative Review and Notice of Amended Final Results of Administrative Review Pursuant to Court Decision, 76 FR 53116 (August 25, 2011) (“Timken Notice”).

⁷ See Certain Lined Paper Products From the People's Republic of China: Notice of Final Results of the Second Administrative Review of the Antidumping Duty Order, 74 FR 63387 (December 3, 2009) (“Second A.R of CLPP”).

Assessment Rates

Pursuant to section 751(a)(2)(A) of the Act and 19 CFR 351.212(b), the Department shall determine, and U.S. Customs and Border Protection (CBP) shall assess, antidumping duties on all appropriate entries. The Department intends to issue assessment instructions to CBP that are related to the amended final results 15 days after the publication of the amended final results of review.

These amended final results of administrative review and notice are issued and published in accordance with sections 751(h), and 777(i)(1) of the Act.

Dated: November 29, 2011.
Paul Piquado,
Assistant Secretary for Import Administration.

[FR Doc. 2011-31295 Filed 12-5-11; 8:45 am]

BILLING CODE 3510-DS-P